DEPARTMENT OF TRANSPORTATION

Federal Railroad Administration

Railroad Safety Grants for the Safe Transportation of Energy Products by Rail Program

AGENCY: Federal Railroad Administration (FRA), Department of Transportation (DOT).

ACTION: Notice of funding availability.

SUMMARY: This Notice of Funding Availability (NOFA or notice) details the application requirements and procedures for obtaining grant funding for eligible projects under Railroad Safety Grants for the Safe Transportation of Energy Products by Rail (or STEP Rail) Program. The opportunities described in this notice are available under Catalog of Federal Domestic Assistance (CFDA) number 20.314, “Railroad Development.”

DATES: Applications for funding under this notice are due no later than 5:00 p.m. Eastern Daylight Time (EDT), on November 4, 2015. Applications for funding received after 5:00 p.m. EDT on November 4, 2015, will not be considered for funding. See Section 4 of this notice for additional information regarding the application process.

ADDRESSES: Applications for funding must be submitted via Grants.gov. For any required or supporting application materials that an applicant is unable to submit via Grants.gov (such as oversized engineering drawings), the applicant may submit an original and two copies to John Winkle, Office of Program Delivery, Federal Railroad Administration, 1200 New Jersey Avenue SE., Mail Stop 20, Washington, DC 20590. As the application deadline approaches, applicants are advised to use other means of document conveyance, such as courier service, to ensure timely delivery.

FOR FURTHER INFORMATION CONTACT: For further information regarding this notice, please contact John Winkle, Office of Program Delivery, Federal Railroad Administration, 1200 New Jersey Avenue SE., Mail Stop 20, Washington, DC 20590; Email: john.winkle@dot.gov; Phone: (202) 493-6067; Fax: (202) 493-6333.

SUPPLEMENTARY INFORMATION: Notice to applicants: FRA recommends that applicants read this notice in its entirety prior to preparing application materials. There are several administrative requirements described herein that applicants must comply with to submit an application and application requirements may differ depending on the type of proposed project. FRA has established a Web page for grant notices, at www.fra.dot.gov/Page/P0021, that contains required application materials and additional guidance for topics referenced in this notice.

Additionally, applicants should note that the required project narrative component of the application package may not exceed 25 pages in length.

Table of Contents

1. Program Description

2. Federal Award Information

3. Eligibility Information

4. Application and Submission Information

5. Application Review

6. Federal Award Administration

7. Federal Awarding Agency Contact

Section 1: Program Description

1.1 Background

Over the last 10 years, the number of railroad accidents in the U.S. has declined by 46 percent and those accidents involving hazardous materials have declined by almost 50 percent. Nonetheless, there is opportunity for improvement, and safety continues to be FRA's number one priority, particularly where hazardous materials and energy product transport are concerned.

In the past two years, DOT and FRA have aggressively taken more than two dozen actions (https://www.fra.dot.gov/eLib/details/L04721) on multiple fronts to mitigate accident risk and promote rail safety. FRA has issued emergency orders and safety advisories; conducted special inspections, such as “Operation Classification”; and brought together railroad companies on a series of immediate actions they can take to improve safety. Additionally, DOT recently released its Final Rule to Strengthen Safe Transportation of Flammable Liquids by Rail (https://www.fra.dot.gov/eLib/details/L16355#p2_z5_gD_lPR), which will prevent accidents, mitigate accident consequences, and support emergency response.

This NOFA represents another component of FRA's multi-pronged effort to promote the safe transport of hazardous materials, with a special emphasis on the movement of energy products by rail, which has increased by well over 4,000 percent in the past 7 years alone, largely due to the increase in domestic crude oil production and its transport to market.

1.2 Program Overview

This notice contains the requirements and procedures applicants must follow to compete for funding under the Railroad Safety Grants for the Safe Transportation of Energy Products by Rail Program. This Program makes $10,000,000 in discretionary funding available for public and private railroad grade crossing enhancement and track improvement projects that improve safety on rail routes that transport flammable energy products, which are defined as crude oil, ethanol, and natural gas for the purposes of this notice.

Applicants are encouraged to read the remainder of this NOFA carefully for funding parameters; applicant, project, and project-cost eligibility requirements; application development and submission policies; details regarding FRA's application evaluation and selection criteria; and post-award grant administration responsibilities.

1.3 Legislative Authority

Funding for this notice was made available by the Consolidated and Further Continuing Appropriations Act, 2015, Public Law 113-235, Division K, Title I, sec. 153, 128 Stat. 2130, 2718 (2014). This Act appropriated $10,000,000 for this grant program, all of which is available through this NOFA.

Section 2: Federal Award Information

The total amount of funding available under this NOFA is $10,000,000. FRA anticipates making multiple awards under this notice. However, given the relatively limited amount of funding available for award, FRA:

(1) Encourages applicants to constrain their Federal funding request to a maximum of $3,000,000 per project and application. While this funding request limit is a recommendation and not a firm requirement, applications exceeding the recommended amount must explain why additional funding over the recommended amount is necessary to implement the proposed project. If additional funding is required for a particular project, applicants are advised to subdivide higher-cost projects into discrete components that demonstrate operational independence and public benefits discrete to that project component.

(2) Strongly encourages applicants to leverage other federal, state, local, or private funds to support the proposed project.

(3) May not be able to award grants to all eligible applications, or even those applications that meet or exceed the stated evaluation criteria (see Section 5, Application Review and Selection). However, should additional funding become available, FRA may choose to fund applications submitted under this NOFA, but not selected in FRA's first round of funding.

Section 3: Eligibility Information

This section of the notice provides the requirements for submitting an eligible grant application under this Program. Applications that do not meet the requirements in this section may be considered ineligible for funding. Instructions for conveying eligibility information to FRA are detailed in Section 4 of this NOFA.

3.1 Applicant Eligibility

The following entities are eligible applicants for all project types permitted under this notice (see section 3.2, “Project Eligibility”):

• States

• Groups of States

• Interstate Compacts

FRA prefers but does not require that State Departments of Transportation (or similar) submit applications on behalf of their State.

3.2 Project Eligibility

This notice solicits applications for two distinct project types. The types of costs/activities allowed under each project type are discussed in Section 3.3, “Cost Eligibility”:

○ Grade Crossing Improvements; and

○ Track Enhancements.

All eligible projects types must be conducted on and directly relate to rail lines over which crude oil, ethanol, and/or natural gas are transported.¹ In addition, all applications must clearly demonstrate project need and the expected positive impact of the proposed project on rail safety using clear, supportable data.

¹ FRA does not maintain comprehensive, publicly-available data regarding where crude oil, ethanol, and/or natural gas are currently transported over rail lines. Therefore, FRA encourages applicants to work with railroads or track owners to determine if a particular line meets this criterion. This information may also be available from emergency responders or emergency planners. Information regarding hazardous material commodity flows, including energy products, may be requested via the provisions of the Association of American Railroads' Circular OT-55-O, which may be downloaded here: http://www.boe.aar.com/boe-download.htm.

Proposed grade crossing improvement and track enhancement projects may include pre-construction planning activities in their statement of work (SOW) (see Section 4 for more details on SOW requirements).

Applicants seeking grade crossing improvement funding must describe their project in the context of the Federal Highway Administration's Railway-Highway Crossing Program funds, 23 U.S.C. 130 funding (Section 130 funding). Specifically, applicants must document why their State has not used Section 130 funding to conduct the proposed project, or how FRA funds will be used to augment/complement work currently proposed, underway, or completed using Section 130 funding.

All applicants must establish the need for their project in the context of energy product transport by rail.

FRA will only accept one project per application, with two discrete exceptions:

(1) FRA will accept an application that proposes a single project composed of combination track enhancements and grade crossing improvements if those enhancements and improvements are at the same or contiguous project sites and the applicant demonstrates that together, they have a markedly higher improvement on rail safety if jointly implemented; and

(2) FRA will accept an application that proposes improvements at sequential grade crossings that, together, will result in a sealed rail corridor or segment.

3.3 Cost Eligibility

3.3.1. Matching Funds. FRA's funding contribution to any proposed project under this NOFA must not exceed an 80 percent share of the total project cost. At least 20 percent of any total project costs must be provided for by the applicant in the form of project match, and applicants are encouraged to leverage funds in excess of the 20 percent project cost where possible. Federal regulation prohibits FRA from considering any Federal or non-Federal funds already expended (or otherwise encumbered) toward the matching requirement. Applicants must identify the source(s) of their matching and other leveraged funds, and must clearly and distinctly reflect these funds as part of the total project cost in the application budget.

Before submitting an application, applicants should carefully review the principles for cost sharing or matching in 2 CFR 200.306.

3.3.2. Grade Crossing Improvement Costs. Activities proposed for grade crossing improvement projects should fall into the following categories, although the examples provided are not exhaustive:

○ Crossing Approach Improvements—includes channelization, medians, and illumination.

○ Crossing Sign and Pavement Improvements.

○ Active Grade Crossing Warning Device Installation/Upgrade—includes flashing lights, gates, bells, track circuitry (such as constant warning time), highway traffic signal interconnection, and highway-traffic signal preemption.

○ Visibility Improvements—includes sight distance improvements and vegetation clearance.

○ Crossing Geometry Improvements—includes horizontal and/or vertical roadway alignment, and elimination or modification of high-profile or “humped” crossings.

○ Grade Crossing Elimination—includes crossing elimination through crossing closure, roadway relocation, or construction of grade separation structures.

○ Other Innovative Crossing Improvements—includes other justifiable safety enhancements such as photo/video enforcement equipment, vehicle presence detection, and remote health monitoring equipment.

FRA strongly encourages applicants to submit proposals for grade crossing improvement projects that go beyond basic signage or visibility improvements (although these improvements may be part of a larger proposed grade crossing improvement project). Application selection preference may be given to projects where proven innovative or cutting edge grade crossing safety techniques or technology will be applied.

3.3.3. Track Enhancements Costs. Activities proposed for track enhancements should be focused on efforts to rehabilitate, restore, maintain, or improve track conditions and classification that will directly and positively impact railroad safety. Activities/costs for these projects should fall into the following categories, although the examples provided in each category are not exhaustive:

○ Track Renewal—includes rail and tie replacement, continuous welding or rail surfacing, and the removal and replacement of existing tie plates, spikes, anchors, and other track material.

○ Ballast Renewal—includes undercutting, ballast replacement, and tamping.

○ Turnout Rehabilitation—includes frog and switch point rehabilitation and replacement or turnout upgrades.

○ Drainage Rehabilitation—includes ditch cleaning, re-grading or culvert cleaning, and replacement or drainage upgrades.

Section 4: Application and Submission Information

4.1 Submission Dates and Times

Complete applications must be submitted to Grants.gov no later than 5:00 p.m. EDT on November 4, 2015. Applications received after 5:00 p.m. EDT on November 4, 2015, will not be considered for funding. Accordingly, applicants are strongly encouraged to apply early to ensure that all materials are received before the application deadline.

4.2 Application Content

Required documents for an application package are outlined in the checklist below.

○ SF424 (Application for Federal Assistance)

○ Project Narrative (see 4.2.1)

○ Statement of Work (see 4.2.2)

○ FRA's Additional Assurances and Certifications

○ Most Recent Section 130 Program Annual State Report (only for grade crossing projects)

○ Either: SF 424A—Budget Information for Non-Construction OR SF 424C—Budget Information for Construction

○ Either: SF 424B—Assurances for Non-Construction OR SF 424D—Assurances for Construction

○ SF LLL: Disclosure of Lobbying Activities

Applicants must complete and submit all components of the application package to be considered for funding. FRA has established a grant opportunity Web page at www.fra.dot.gov/Page/P0021, which contains application forms and additional application guidance. Additional content requirements for the project narrative and SOW can be found in Sections 4.2.1 and 4.2.2 below.

FRA welcomes the submission of other relevant supporting documentation that the applicant has developed such as planning, National Environmental Policy Act (NEPA) documentation, engineering and design documentation, letters of support, etc. Applications accompanied by completed feasibility studies, environmental determinations, and cost estimates may be more favorably considered during the application review process because they demonstrate an applicant has a greater understanding of the scope and cost of the proposed project. These documents will not count against the 25-page limit applied to the project narrative.

4.2.1 Project Narrative. The following seven numeric points describe the minimum content required in the project narrative component of a grant application, and FRA recommends that the project narrative adhere to the following outline. The project narrative may not exceed 25 pages in length (including any supporting tables, maps, drawings, etc.) FRA will not accept applications with project narratives exceeding the 25 page limit. However, the supplementary documents listed in the Section 4.2 above will not count against this limit.

(1) Include a title page that lists the following elements in either a table or formatted list: Project title, location (street or address, zip code, city, county, State, district), type of project (e.g., Grade Crossing Improvement or Track Enhancement), the applicant organization name, and the name of any co-applicants. Provide a brief 4-6 sentence summary of the proposed project, capturing the safety challenges the proposed project aims to address, the intended outcomes, and anticipated benefits that will result from the proposed project. If applicable, the project description must also cite specific National Grade Crossing Inventory information, including the name railroad that owns the infrastructure (or the crossing owner, if different from the railroad), the name of the primary railroad operator, the DOT crossing inventory number, and the name of the roadway at the crossing. Applicants can search for data to meet this requirement at the following link: http://safetydata.fra.dot.gov/OfficeofSafety/default.aspx.

(2) Describe applicant eligibility per Section 3 of this notice. Provide a single point of contact for the application including: Name, title, phone number, mailing address, and email address. The point of contact must be an employee of the eligible applicant.

(3) Indicate the amount of Federal funding requested from FRA under this NOFA and for this project, the proposed non-Federal match, any other funding amounts, and total project cost. Identify the Federal and matching funding percentages of the total project cost. Applicants must identify source(s) of matching funds, the source(s) of any other Federal funds committed to the project, and any pending Federal requests. Please note, other federal funds may be used to support the project, but may not be considered eligible matching funds for funds awarded under this notice. If applicable, be sure to note if the requested Federal funding must be obligated or expended by a certain date due to dependencies or relationships with other Federal or non-Federal funding sources, related projects, or other factors. Finally, specify whether Federal funding has ever previously been sought for the project and not secured, and name the Federal program and fiscal year from which the funding was requested.

(4) Include a detailed project description that expands upon the brief summary required in item number one of the project narrative section. This detailed description should provide, at a minimum, additional background on: The safety risks and challenges the project aims to address; the amount of crude oil, ethanol, or natural gas transported through the project area; the expected beneficiaries of the project (including any private rail companies); the specific project activities proposed, expected outputs and outcomes of the project; and any other information the applicant deems necessary to justify the proposed project. In describing the project, the application should also clearly explain how the proposed project meets the respective project and cost/activity eligibility criteria for the type of funding requested as outlined in Section 3 of this notice.

(5) Include a thorough discussion of how the project meets all of the evaluation criteria for the respective project type as outlined below in Section 5 of this notice. Applicants should note that FRA reviews applications based upon the evaluation criteria listed. If an application does not sufficiently address the evaluation criteria, it is unlikely to be considered a competitive application. In responding to the criteria, applicants are reminded to clearly identify, quantify, and compare expected safety benefits and costs of proposed projects. FRA understands that the level of detail and sophistication of analysis that should be expected for relatively small projects (i.e., those encouraged to be limited to under $3,000,000 in this notice) is less than for larger, multi-million dollar investments.

(6) Describe proposed project implementation and project management arrangements. Include descriptions of the expected arrangements for project contracting, contract oversight, change-order management, risk management, and conformance to Federal requirements for project progress reporting.

(7) Describe anticipated environmental or historic preservation impacts associated with the proposed project, any environmental or historic preservation analyses that have been prepared, and progress toward completing any environmental documentation or clearance required for the proposed project under NEPA, the National Historic Preservation Act, section 4(f) of the U.S. DOT Act, the Clean Water Act, or other applicable Federal or State laws. Applicants and grantees under FRA's financial assistance programs are encouraged to contact FRA and obtain preliminary direction regarding the appropriate NEPA class of action and required environmental documentation. Generally, projects will be ineligible to receive funding if they have begun construction activities prior to the applicant/grantee receiving written approval from FRA that all environmental and historical analyses have been completed. Additional information regarding FRA's environmental processes and requirements are located at www.fra.dot.gov/Page/#####.

4.2.2 Statement of Work. Applicants are required to submit an SOW that addresses the scope, schedule, and budget for the proposed project if it were selected for award. The SOW should contain sufficient detail so that both FRA and the applicant can understand the expected outcomes of the proposed work to be performed and monitor progress toward completing project tasks and deliverables during a prospective grant's period of performance. The FRA has developed a standard SOW template that applicants must use to be considered for award. The SOW templates are located at www.fra.dot.gov/Page/P0021.

4.3 Submission Instructions

Applicants must submit all application materials through Grants.gov. For any required or supporting application materials an applicant is unable to submit via Grants.gov (such as oversized engineering drawings), an applicant may submit an original and two copies to Renee Cooper, Office of Program Delivery, Federal Railroad Administration, 1200 New Jersey Avenue SE., Mail Stop 20, Washington, DC 20590. Applicants are advised to use means of rapid conveyance (such as courier service) as the application deadline approaches.

To apply for funding through Grants.gov, applicants must be properly registered. Complete instructions on how to register and submit an application are at Grants.gov. Registering with Grants.gov is a one-time process. However, it can take several weeks for first-time registrants to receive confirmation and a user password. FRA recommends that applicants start the registration process as early as possible to prevent delays that may preclude submitting an application package by the application deadline. FRA will not accept applications after the due date.

To apply for funding under this announcement and to apply for funding through Grants.gov, all applicants must:

1. Acquire a DUNS Number. A Data Universal Numbering System (DUNS) number is required for Grants.gov registration. The Office of Management and Budget requires that all businesses and nonprofit applicants for Federal funds include a DUNS number in their applications for a new award or renewal of an existing award. A DUNS number is a unique nine-digit sequence recognized as the universal standard for identifying and keeping track of entities receiving Federal funds. The identifier is used for tracking purposes and to validate address and point of contact information for Federal assistance applicants, recipients, and sub-recipients. The DUNS number will be used throughout the grant life cycle. Obtaining a DUNS number is a free, one-time activity. Applicants may obtain a DUNS number by calling 1-866-705-5711 or by applying online at http://www.dnb.com/us.

2. Acquire or Renew Registration with the System for Award Management (SAM) Database. All applicants for Federal financial assistance must maintain current registrations in the System for Award Management (SAM) database. An applicant must be registered in SAM to successfully register in Grants.gov. The SAM database is the repository for standard information about Federal financial assistance applicants, recipients, and sub recipients. Organizations that have previously submitted applications via Grants.gov are already registered with SAM, as it is a requirement for Grants.gov registration. Please note, however, that applicants must update or renew their SAM registration at least once per year to maintain an active status. Therefore, it is critical to check registration status well in advance of the application deadline. Information about SAM registration procedures is available at www.sam.gov.

3. Acquire an Authorized Organization Representative (AOR) and a Grants.gov Username and Password. Applicants must complete an AOR profile on Grants.gov and create a username and password. Applicants must use the organization's DUNS number to complete this step. Additional information about the registration process is available at www.grants.gov/applicants/get_registered.jsp.

4. Acquire Authorization for your AOR from the E-Business Point of Contact (E-Biz POC). The Applicant's E-Biz POC must log in to Grants.gov to confirm a representative as an AOR. Please note that there can be more than one AOR at an organization.

5. Search for the Funding Opportunity on Grants.gov. The Catalog of Federal Domestic Assistance (CFDA) number for this opportunity is 20.314, titled “Railroad Development.”

6. Submit an Application Addressing All of the Requirements Outlined in this Funding Availability Announcement. After submitting the application through Grants.gov, a confirmation screen will appear on the applicant's computer screen. This screen will confirm that the applicant has submitted an application and provide a tracking number to track the status of the submission. Within 24 to 48 hours after submitting an electronic application, an applicant should receive an email validation message from Grants.gov. The validation message will explain whether the application has been received and validated or rejected, with an explanation. Applicants are urged to submit an application at least 72 hours prior to the due date of the application to allow time to receive the validation message and to correct any problems that may have caused a rejection notification.

If an applicant experiences difficulties at any point during this process, please call the Grants.gov Customer Center Hotline at 1-800-518-4726, 24 hours a day, 7 days a week (closed on Federal holidays).

Note: Please use generally accepted formats such as .pdf, .doc, .docx, .xls, .xlsx and .ppt, when uploading attachments. While applicants may imbed picture files, such as .jpg, .gif, and .bmp, in document files, applicants should not submit attachments in these formats. Additionally, the following formats will not be accepted: .com, .bat, .exe, .vbs, .cfg, .dat, .db, .dbf, .dll, .ini, .log, .ora, .sys, and .zip.

Section 5: Application Review

5.1 Intake and Eligibility

Following the application deadline, FRA will screen all applications for timely submission and completeness. Applications that do not meet the requirements detailed in Section 4 of this notice will be ineligible for funding consideration.

5.2 Evaluation

FRA intends to award funds to projects that achieve the maximum benefits possible given the amount of funding available. FRA will analyze each application for its technical merit using the factors and sub-criteria below.

(1) Technical Merit

○ The application is thorough and responsive to all of the requirements outlined in this notice.

○ The tasks and subtasks outlined in the SOW are appropriate to achieve the expected safety outputs of the proposed project.

○ The proposed costs are realistic and are sufficient to accomplish the tasks documented in the SOW.

○ The appropriate partnerships and financing are in place to complete the proposed project.

(2) Project Benefits

○ The application contains supportable data to describe the safety risk that currently exists if the proposed project is not completed, including clear data regarding the energy products transported through the proposed project site.

○ The applicant describes the expected safety benefit of the project, making a reasonable link between that benefit and the proposed activities of the project.

○ The relative impact of the proposed safety improvement (i.e., does the safety benefit have a significant impact on a given community, rail line, etc.).

○ Information provided by the applicant that demonstrates the merit of investing in the proposed project using a benefit cost analysis that is systematic, data driven, and examines the trade-offs between projects costs and their expected safety benefit. Applicants should note if other, alternative investments were considered for submission under this notice using a similar benefit-cost analysis approach. Applicants are strongly encouraged to use Executive Order 12839 (Principles for Federal Infrastructure Investments, 59 FR 4233), OBM Circular A-94 (Guidelines and Discount Rates for Benefit-Cost Analysis of Federal Programs), and Office of Management and Budget (OMB) Circular A-4 (Regulatory Analysis) to conduct this analysis.

5.3 Selection

In addition to the evaluation criteria outlined in Section 5.2 above, the FRA Administrator may apply any or all of the following selection criteria to further ensure the projects selected for funding advance FRA and DOT's current mission and key priorities, as well as to ensure the projects selected are appropriate in a national context.

(1) Alignment with DOT Strategic Goals and Priorities:

○ Improving transportation safety;

○ Maintaining infrastructure in a state of good repair;

○ Promoting economic competitiveness;

○ Advancing environmentally sustainable transportation policies;

○ Furthering the six “Livability Principles” DOT developed with the Department of Housing and Urban Development and the Environmental Protection Agency as part of the Partnership for Sustainable Communities;

○ Enhancing quality of life; and/or

○ Building ladders of opportunity to expand the middle class.

(2) Project Delivery Performance:

○ The applicant's track record in successfully delivering previous FRA and DOT grants on time, on budget, and for the full intended scope; and/or

○ The extent to which the proposed project complements previous FRA or DOT awards.

(3) Region/Location

○ The extent to which the proposed project increases the economic productivity of land, capital, or labor at specific locations, particularly in economically distressed areas;

○ Ensuring appropriate level of regional balance across the country; and/or

○ Ensuring consistency with national transportation and rail network objectives.

(4) Innovation/Resource Development:

○ Pursuing new rail technologies, including grade crossing safety-improvement technology, that result in favorable public return on investment and ensure delivery of project benefits;

○ Promoting innovations that demonstrate the value of new approaches to, safety management, as well as contracting, project delivery, etc.; and/or

○ Promoting domestic manufacturing, supply, and industrial development.

(5) Partnerships:

○ For projects that span multiple jurisdictions (States or local governments), emphasizing those that have organized multi-jurisdictional partnerships with joint planning and prioritization of investments;

○ Strengthening human capital and workforce opportunities, particularly for low-income workers or for people in economically distressed areas;

○ Employing creative approaches to ensure workforce diversity and use of disadvantaged and minority business enterprises, including opportunities for small businesses and disadvantaged business enterprises, including veteran-owned small businesses and service-disabled veteran-owned small businesses; and/or

○ Engaging local communities and other stakeholder groups in the project in a way that offers an opportunity for meaningful engagement in the process.

(6) Project Readiness:

○ Applicant progress, if any, in reaching compliance with the NEPA for the proposed project. Note that NEPA related work or a NEPA decision (e.g., a Record of Decision, Finding of No Significant Impact, Categorical Exclusion determination) is not required to apply for funding under this program;

○ The extent to which proposed project is consistent with an adopted State-wide transportation or rail plan;

○ The level of detail provided in the submitted Statement of Work, including whether there is enough information to immediately advance the proposed project to award;

○ The level and degree to which the proposed project is dependent on other non-FRA financial contributions and the extent to which these contributions are secure; and/or

○ Whether there are engineering materials developed and submitted to FRA or materials partially developed that may be available to FRA in the near future to assess the proposed project's design and constructability risks.

(7) Passenger Rail Impact:

○ Proposed projects that improve rail lines over which both passengers and energy products travel.

Section 6: Federal Award Administration

Applications selected for funding will be announced after the application review period. FRA will contact applicants with successful applications after announcement with information and instructions about the award process. Notification of a selected application is not an authorization to begin proposed project activities. A formal Notice of Grant Agreement signed by both the grantee and the FRA and containing an approved scope, schedule, and budget, is required before the award is considered complete.

The period of performance for grants awarded under this notice is dependent upon the project and will be determined on a grant-by-grant basis. FRA will only consider written requests to FRA to extend the period of performance with specific and compelling justifications for why an extension is required. Any obligated funding not spent by the grantee and reimbursed by the FRA upon completion of the grant will be deobligated.

FRA will make awards for projects selected under this notice through cooperative agreements. Cooperative agreements allow for substantial Federal involvement in carrying out the agreed upon investment, including technical assistance, review of interim work products, and increased program oversight under 2 CFR part 200, appendix I. The funding provided under these cooperative agreements will be made available to grantees on a reimbursable basis. Applicants must certify that their expenditures are allowable, allocable, reasonable, and necessary to the approved project before seeking reimbursement from FRA. Additionally, the grantee must expend matching funds at the required percentage alongside Federal funds throughout the life of the project.

6.1 Administrative and National Policy Requirements

Grantees and entities receiving funding from the grantee (sub-recipients), must comply with all applicable laws and regulations. A non-exclusive list of administrative and national policy requirements that grantees must follow includes: 2 CFR part 200; procurement standards; compliance with Federal civil rights laws and regulations; disadvantaged business enterprises; debarment and suspension; drug-free workplace; FRA's and OMB's Assurances and Certifications; Americans with Disabilities Act; and labor standards, safety oversight, environmental protection, NEPA, environmental justice, and Buy American (41 U.S.C. 8302) provisions.

6.2 General Requirements

The grantee must comply with all post-award reporting, auditing, monitoring, and close-out requirements, as described at www.fra.dot.gov/Page/P0021.

Section 7: Federal Awarding Agency Contact

For further information regarding this notice and the grants program, please contact John Winkle, Office of Program Delivery, Federal Railroad Administration, 1200 New Jersey Avenue SE., Mail Stop 20, Washington, DC 20590; Email: john.winkle@dot.gov; Phone: (202) 493-6067; Fax: (202) 493-6333.

Authority: Pub. L. 113-235, sec. 153, Division K, Title I, 128 Stat. 2130, 2718.

Issued in Washington, DC on August 31, 2015.
David Valenstein,
Division Chief.

[FR Doc. 2015-21960 Filed 9-3-15; 8:45 am]

BILLING CODE 4910-06-P